DEPARTMENT OF JUSTICE

[1140-0062]

Agency Information Collection Activities; Proposed eCollection eComments Requested; Extension of a Previously Approved Collection; Identification of Imported Explosives Materials

AGENCY: Bureau of Alcohol, Tobacco, Firearms and Explosives, Department of Justice.

ACTION: 60-Day notice.

SUMMARY: The Department of Justice (DOJ), The Bureau of Alcohol, Tobacco, Firearms and Explosives (ATF), will be submitting the following information collection request to the Office of Management and Budget (OMB) for review and approval in accordance with the Paperwork Reduction Act of 1995.

DATES: Comments are encouraged and will be accepted for 60 days until December 3, 2024.

FOR FURTHER INFORMATION CONTACT: If you have additional comments especially on the estimated public burden or associated response time, suggestions, or need a copy of the proposed information collection instrument with instructions or additional information, contact: Michael O'Lena, Explosives Industry Programs Branch, either by mail at 99 New York Avenue NE, Room 6.N.518, Washington, DC 20226, by email at eipb-informationcollection@atf.gov, or telephone at (202) 648-7120.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The information is necessary to ensure that explosive materials can be effectively traced. All licensed importers are required to identify by marking all explosive materials they import for sale or distribution.

Overview of This Information Collection

1. Type of Information Collection: Extension of a previously approved collection.

2. The Title of the Form/Collection: Identification of Imported Explosives Materials.

3. The agency form number, if any, and the applicable component of the Department sponsoring the collection: None.

Component: Bureau of Alcohol, Tobacco, Firearms and Explosives, U.S. Department of Justice.

4. Affected public who will be asked or required to respond, as well as the obligation to respond: Affected Public: Private Sector-for or not for profit institutions.

The obligation to respond is mandatory per 27 CFR part 555.

5. An estimate of the total number of respondents and the amount of time estimated for an average respondent to respond: An estimated 17 respondents will respond to this collection, and it will take each respondent approximately 1 hour to complete their responses.

6. An estimate of the total annual burden (in hours) associated with the collection: The estimated annual public burden associated with this collection is 51 total hours, which is equal to 17 (total respondents) * 3 (# of response per respondent) * 1.0 (1 hour).

7. An estimate of the total annual cost burden associated with the collection, if applicable: $0.

Total Burden Hours
Activity | Number of respondents | Frequency | Total annual responses | Time per response (hour) | Total annual burden (hours)
OMB 1140-0062 | 17 | 3 | 51 | 1 | 51
Unduplicated Totals | 17 | 3 | 51 | 1 | 51

If additional information is required contact: Darwin Arceo, Department Clearance Officer, United States Department of Justice, Justice Management Division, Policy and Planning Staff, Two Constitution Square, 145 N Street NE, 4W-218, Washington, DC.

Dated: October 1, 2024.
Darwin Arceo,
Department Clearance Officer for PRA, U.S. Department of Justice.

[FR Doc. 2024-23022 Filed 10-3-24; 8:45 am]

BILLING CODE 4410-FY-P